DEPARTMENT OF THE INTERIOR

National Park Service

Notice of Extension of Public Comment Period for the Draft General Management Plan/Visitor Use and Facilities Plan and the Draft Environmental Impact Statement for Voyageurs National Park, Minnesota

SUMMARY: Pursuant to section 102(2) of the National Environmental Policy Act of 1969, the National Park Service has prepared a Draft General Management Plan/Visitor Use and Facilities Plan and a Draft Environmental Impact Statement (DGMP/DEIS) for Voyageurs National Park. Because of strong public interest in the project, the comment period for this document has been extended an additional 30-days.

DATES: The comment period will now end on October 23, 2000. All written comments should be postmarked by this date.

FOR FURTHER INFORMATION CONTACT: Kathleen Przybylski, Voyageurs National Park, 3131 Highway 53, International Falls, MN 56649, telephone: 218-283-9821. E-mail: Kathleen_Przybylski@nps.gov.

SUPPLEMENTARY INFORMATION: You may mail comments on the DMGP/DEIS to: General Management Plan, Voyageurs National Park, 3131 Highway 53, International Falls, MN 56649. You also may comment via e-mail to Kathleen_Przybylski@nps.gov.

The purpose of the General Management Plan/Visitor Use and Facilities Plan is to set forth the basic management philosophy for the Park and to provide the strategies for addressing issues and achieving identified management objectives. The DGMP/DEIS describes and analyzes the environmental impacts of a proposed action and two action alternatives for the future management direction of the Park. A no action alternative is also evaluated.

The initial Environmental Protection Agency (EPA) notice of availability for this document appeared in the Federal Register on June 23, 2000 (65 FR 39146). An amended EPA notice reflecting the first 30-day extension for public comment was published in the Federal Register on August 11, 2000 (65 FR 49237).

September 22, 2000.
Catherine A. Damon,
Acting Regional Director, Midwest Region.

[FR Doc. 00-25255 Filed 9-29-00; 8:45 am]

BILLING CODE 4310-70-U